DEPARTMENT OF ENERGY

Federal Energy Regulatory Commission

Combined Notice of Filings #1

Take notice that the Commission received the following electric corporate filings:

Docket Numbers: EC16-158-000.

Applicants: Boulder Solar Power, LLC.

Description: Application for authorization under Section 203 of the Federal Power Act and request for expedited action, confidential treatment, and waivers re Boulder Solar Power, LLC.

Filed Date: 7/27/16.

Accession Number: 20160727-0001.

Comments Due: 5 p.m. ET 8/17/16.

Docket Numbers: EC16-159-000.

Applicants: FPL Energy Marcus Hook, L.P., FPL Energy MH50 L.P., NatGas Holdings 2, L.L.C.

Description: Joint Application for Authorization Under Section 203 of the Federal Power Act and Requests for Confidential Treatment and Waivers of FPL Energy Marcus Hook, L.P., et al.

Filed Date: 7/29/16.

Accession Number: 20160729-5154.

Comments Due: 5 p.m. ET 8/19/16.

Take notice that the Commission received the following electric rate filings:

Docket Numbers: ER10-2331-057; ER10-2319-048; ER10-2317-048; ER13-1351-030; ER10-2330-055.

Applicants: J.P. Morgan Ventures Energy Corporation, BE Alabama LLC, BE CA LLC, Florida Power Development LLC, Utility Contract Funding, L.L.C.

Description: Notice of Non-Material Change in Status of the J.P. Morgan Sellers, et al.

Filed Date: 7/29/16.

Accession Number: 20160729-5048.

Comments Due: 5 p.m. ET 8/19/16.

Docket Numbers: ER10-2721-006.

Applicants: El Paso Electric Company.

Description: Second Supplement to December 31, 2015 Updated Market Power Analysis of El Paso Electric Company.

Filed Date: 7/29/16.

Accession Number: 20160729-5088.

Comments Due: 5 p.m. ET 9/27/16.

Docket Numbers: ER16-1023-002.

Applicants: Eversource Energy Service Company (as ag,ISO New England Inc.

Description: Compliance filing: Compliance Filing to Conform Attachment F to be effective 6/1/2016.

Filed Date: 7/29/16.

Accession Number: 20160729-5134.

Comments Due: 5 p.m. ET 8/19/16.

Docket Numbers: ER16-1518-001.

Applicants: California Independent System Operator Corporation.

Description: Compliance filing: 2016-07-25 Compliance EIM Enhancements Year One—Phase 2 to be effective 10/1/2016.

Filed Date: 7/29/16.

Accession Number: 20160729-5125.

Comments Due: 5 p.m. ET 8/19/16.

Docket Numbers: ER16-2307-000.

Applicants: Vista Energy Marketing, L.P.

Description: Baseline eTariff Filing: Final Version of Vista MBR Filing to be effective 10/1/2016.

Filed Date: 7/28/16.

Accession Number: 20160728-5131.

Comments Due: 5 p.m. ET 8/18/16.

Docket Numbers: ER16-2308-000.

Applicants: PJM Interconnection, L.L.C.

Description: Section 205(d) Rate Filing: Amendment to Original WMPA SA No. 3915, Queue Nos. Y2-042/Z2-104 to be effective 6/19/2015.

Filed Date: 7/29/16.

Accession Number: 20160729-5039.

Comments Due: 5 p.m. ET 8/19/16.

Docket Numbers: ER16-2309-000.

Applicants: Southwest Power Pool, Inc.

Description: Section 205(d) Rate Filing: 3216 WAPA & City of Pierre, SD Interconnection Agreement to be effective 7/5/2016.

Filed Date: 7/29/16.

Accession Number: 20160729-5047.

Comments Due: 5 p.m. ET 8/19/16.

Docket Numbers: ER16-2310-000.

Applicants: PJM Interconnection, L.L.C.

Description: Section 205(d) Rate Filing: Amendment to Original ISA No. 4242, Queue No. Z1-092 to be effective 7/23/2015.

Filed Date: 7/29/16.

Accession Number: 20160729-5051.

Comments Due: 5 p.m. ET 8/19/16.

Docket Numbers: ER16-2311-000.

Applicants: Duke Energy Carolinas, LLC.

Description: Section 205(d) Rate Filing: Dyanmic Transfer Agreement to be effective 8/1/2016.

Filed Date: 7/29/16.

Accession Number: 20160729-5052.

Comments Due: 5 p.m. ET 8/19/16.

Docket Numbers: ER16-2312-000.

Applicants: Alabama Power Company.

Description: Section 205(d) Rate Filing: Attachment S (APCo) 2016 Updated Depreciation Rates Filing to be effective 1/1/2017.

Filed Date: 7/29/16.

Accession Number: 20160729-5057.

Comments Due: 5 p.m. ET 8/19/16.

Docket Numbers: ER16-2313-000.

Applicants: Alabama Power Company.

Description: Section 205(d) Rate Filing: Attachment S (SEGCo) 2016 Updated Depreciation Rates Filing to be effective 1/1/2017.

Filed Date: 7/29/16.

Accession Number: 20160729-5062.

Comments Due: 5 p.m. ET 8/19/16.

Docket Numbers: ER16-2314-000.

Applicants: Southern Electric Generating Company.

Description: Section 205(d) Rate Filing: SEGCO 2016 Updated Depreciation Rates Filing to be effective 1/1/2017.

Filed Date: 7/29/16.

Accession Number: 20160729-5065.

Comments Due: 5 p.m. ET 8/19/16.

Docket Numbers: ER16-2315-000.

Applicants: Georgia Power Company.

Description: Section 205(d) Rate Filing: FP&L Scherer Unit 4 TSA Amendment Filing (SEGCo 2016 Updated Depreciation Rates) to be effective 1/1/2017.

Filed Date: 7/29/16.

Accession Number: 20160729-5074.

Comments Due: 5 p.m. ET 8/19/16.

Docket Numbers: ER16-2316-000.

Applicants: Georgia Power Company.

Description: Section 205(d) Rate Filing: JEA Scherer Unit 4 TSA Amendment Filing (SEGCo 2016 Updated Depreciation Rates) to be effective 1/1/2017.

Filed Date: 7/29/16.

Accession Number: 20160729-5075.

Comments Due: 5 p.m. ET 8/19/16.

Docket Numbers: ER16-2317-000.

Applicants: Southern California Edison Company.

Description: Section 205(d) Rate Filing: DSA Calleguas Municipal Water District Santa Rosa Project to be effective 7/2/2016.

Filed Date: 7/29/16.

Accession Number: 20160729-5087.

Comments Due: 5 p.m. ET 8/19/16.

Docket Numbers: ER16-2318-000.

Applicants: BIF III Holtwood LLC.

Description: Section 205(d) Rate Filing: Order No. 816 Tariff Update for Hydroelectric Generator to be effective 8/1/2016.

Filed Date: 7/29/16.

Accession Number: 20160729-5095.

Comments Due: 5 p.m. ET 8/19/16.

Docket Numbers: ER16-2319-000.

Applicants: Sabine Cogen, LP.

Description: Compliance filing: Reactive Revenue Rate Schedule of Sabine Cogen, LP to be effective 10/1/2016.

Filed Date: 7/29/16.

Accession Number: 20160729-5099.

Comments Due: 5 p.m. ET 8/19/16.

Docket Numbers: ER16-2320-000.

Applicants: Pacific Gas and Electric Company.

Description: Section 205(d) Rate Filing: Transmission Owner Rate Case 2017 (TO18) to be effective 10/1/2016.

Filed Date: 7/29/16.

Accession Number: 20160729-5100.

Comments Due: 5 p.m. ET 8/19/16.

Docket Numbers: ER16-2321-000.

Applicants: New England Power Pool Participants Committee.

Description: Section 205(d) Rate Filing: Aug 2016 Membership Filing to be effective 7/1/2016.

Filed Date: 7/29/16.

Accession Number: 20160729-5127.

Comments Due: 5 p.m. ET 8/19/16.

Docket Numbers: ER16-2322-000.

Applicants: Southwest Power Pool, Inc.

Description: Section 205(d) Rate Filing: 1518R11 Arkansas Electric Cooperative Corp NITSA NOA to be effective 7/1/2016.

Filed Date: 7/29/16.

Accession Number: 20160729-5128.

Comments Due: 5 p.m. ET 8/19/16.

Docket Numbers: ER16-2323-000.

Applicants: Appalachian Power Company.

Description: Section 205(d) Rate Filing: OATT—Revise Attachments K & L, TCC and TNC Rate Update to be effective 12/31/9998.

Filed Date: 7/29/16.

Accession Number: 20160729-5139.

Comments Due: 5 p.m. ET 8/19/16.

Docket Numbers: ER16-2324-000.

Applicants: ITC Midwest LLC.

Description: Section 205(d) Rate Filing: Filing of Amendments to Facilities Agreements to be effective 8/1/2016.

Filed Date: 7/29/16.

Accession Number: 20160729-5140.

Comments Due: 5 p.m. ET 8/19/16.

Docket Numbers: ER16-2325-000.

Applicants: Southwest Power Pool, Inc.

Description: Section 205(d) Rate Filing: 2969R1 Associated Electric Cooperative, Inc. NITSA NOA to be effective 7/1/2016.

Filed Date: 7/29/16.

Accession Number: 20160729-5141.

Comments Due: 5 p.m. ET 8/19/16.

Docket Numbers: ER16-2326-000.

Applicants: PJM Interconnection, L.L.C.

Description: Section 205(d) Rate Filing: Revisions to the PJM/MMU Service Level Agreement to be effective 8/1/2016.

Filed Date: 7/29/16.

Accession Number: 20160729-5146.

Comments Due: 5 p.m. ET 8/19/16.

Take notice that the Commission received the following electric securities filings:

Docket Numbers: ES16-47-000.

Applicants: AEP Utilities, Inc.

Description: Application Under Section 204 of the Federal Power Act for Authorization to Issue Securities of AEP Utilities, Inc.

Filed Date: 7/29/16.

Accession Number: 20160729-5090.

Comments Due: 5 p.m. ET 8/19/16.

Docket Numbers: ES16-48-000.

Applicants: New Hampshire Transmission, LLC.

Description: Application for Authorization of Issuance of Long-Term Debt Securities under FPA Section 204 of New Hampshire Transmission, LLC.

Filed Date: 7/29/16.

Accession Number: 20160729-5149.

Comments Due: 5 p.m. ET 8/19/16.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: July 29, 2016.
Nathaniel J. Davis, Sr.,
Deputy Secretary.

[FR Doc. 2016-18494 Filed 8-3-16; 8:45 am]

BILLING CODE 6717-01-P